DEPARTMENT OF LABOR

Office of the Secretary

Submission for OMB Review: Comment Request

June 22, 2007.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling Ira Mills on 202-693-4122 (this is not a toll-free number) or E-Mail: Mills.Ira@dol.gov, or by accessing http://www.reginfo.gov/public/do/PRAMain.Comments should be sent to Office of Information and Regulatory Affairs, Attn: OMB Desk Officer for U.S. Department of Labor/Bureau of Labor Statistic (BLS), Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Bureau of Labor Statistics.

Type of Review: Revision of a currently approved collection.

Title: Survey of Occupational Injuries and Illnesses.

OMB Number: 1220-0045.

Frequency: Annually.

Affected Public: Business or other for-profit; Not-for-profit institutions; Farms; and State, Local or Tribal Government.

Type of Response: Recordkeeping and Reporting.

Number of Respondents:

Form | Total respondents | Frequency | Total responses | Average time per response | Estimated total burden
BLS 9300 | 230,000 | Annually | 230,000 | .4 hour | 91,666 hours
Pre-notification Package | 175,000 out of 230,000 | Annually | 175,000 out of 230,000 | 1.35 hours | 235,833 hours
TOTALS | 230,000 |  | 230,000 |  | 327,499 hours

Total Annualized Capital/Startup Costs: 0.

Total Annual Costs: 0 (operating/maintaining systems or purchasing services).

Description: The goal of the Occupational Safety and Health Act, as stated in Section 2(b), is to assure, as far as possible, every working man and woman in the Nation safe and healthful working conditions. The BLS Survey of Occupational Injuries and Illnesses provides the Nation's primary indicator of the progress towards achieving this goal. The survey measures the overall rate of occurrence of work injuries and illnesses by industry. The industry classifications for which data are produced reflect the incorporation of the North American Industry Classification System (NAICS) codes beginning with reference year 2003. Until now, the Survey of Occupational Injuries and Illnesses has been restricted to producing national estimates for the private sector only. Consequently, there have been no national estimates of workplace injuries and illnesses sustained by State and Local government workers, including those in such relatively high hazard and high profile occupations as police, firefighters, paramedics and other public health workers. To address this data gap, beginning with survey year 2008, the BLS will collect data from State and Local government agencies in all States to support both State and national estimates. The BLS will collect this data within the current budget. The BLS regards the collection of these data as a significant expansion in its overall coverage of the American workplace. BLS will send a letter explaining that the survey is voluntary for State and Local government agencies in States that do not require this collection of data. The number of extra sample units needed for State and Local government data is approximately 7,000. A Non-Substantive change request will be made for this increase for survey year 2008.

For the more serious injuries and illnesses, those with days away from work, the survey provides detailed information on the injured/ill worker (age, sex, race, industry, occupation, and length of service), the time in shift, and the circumstances of the injuries and illnesses classified by standardized codes (nature of the injury/illness, part of body affected, primary and secondary sources of the injury/illness, and the event or exposure that produced the injury/illness). Race data categories reflect the Office of Management and Budget (OMB) recommended categories for non-self-reported classification. Optional information on the general job category is used to improve coding for non-descriptive job titles, such as “Customer Service Representative.” A check-off for before/during/after work shift was included to identify the events that occurred before or after the work shift.

In the two decades prior to the OSHA recordkeeping changes in 2002, incidence rates for cases with days away from work decreased significantly while incidence rates for cases with only restricted work activity increased significantly. Since the BLS presently collects case and demographic data only for cases with days away from work, data are not obtained about a growing class of injury and illness cases. Beginning with the 2008 survey year, BLS will test collection of case and demographic data for injury and illness cases that require only days of job transfer or restriction. If the test(s) prove successful, BLS will implement this for as many States as the budget allows beginning with survey year 2009. BLS regards the collection of these cases with only job transfer or restriction as significant in its coverage of the American workforce.

Ira L. Mills,
Departmental Clearance Officer/Team Leader.

[FR Doc. E7-12710 Filed 6-29-07; 8:45 am]

BILLING CODE 4510-24-P